DEPARTMENT OF THE TREASURY

Internal Revenue Service

26 CFR Part 1

[REG-134317-05]

RIN 1545-BF16

Guidance Necessary To Facilitate Business Electronic Filing and Burden Reduction; Correction

AGENCY: Internal Revenue Service (IRS), Treasury.

ACTION: Correction to notice of proposed rulemaking by cross-reference to temporary regulations.

SUMMARY: This document contains corrections to a notice of proposed rulemaking by cross-reference to temporary regulations that was published in the Federal Register on Tuesday, May 30, 2006 (71 FR 30640) relating to guidance necessary to facilitate business electronic filing and burden reduction.

FOR FURTHER INFORMATION CONTACT: Grid Glyer, (202) 622-7930 (not a toll-free number).

SUPPLEMENTARY INFORMATION:

Background

The notice of proposed rulemaking by cross-reference to temporary regulations (REG-134317-05) that are the subject of these corrections is under sections 1502 and 1563 of the Internal Revenue Code.

Need for Correction

As published, the notice of proposed rulemaking by cross-reference to temporary regulations (REG-134317-05) contains errors that may prove to be misleading and is in need of clarification.

Correction of Publication

Accordingly, the notice of proposed rulemaking by cross-reference to temporary regulations (REG-134317-05), that was the subject of FR Doc. 06-4872, is corrected as follows:

1. On page 30640, column 3, under the heading “Background and Explanation of Provisions”, the fourth through sixth lines from the bottom of the Paragraph, the language “1.1502-76T, 1.1502-95T, 1.1563-1T, 1.1563-3T, and amend part 602 to add § 1.6012-2T.” is corrected to read “1.1502-95T, 1.1563-1T, 1.1563-3T, and revise § 1.1502-76T; and amend part 602 to add § 1.6012-2T.”

2. On page 30642, column 1, under Par. 22., the language “paragraph (c)(2)” is corrected to read “paragraph (c)(2)(i) through (iii)”.

Cynthia E. Grigsby,
Senior Federal Register Liaison Officer, Publications and Regulations Branch, Associate Chief Counsel (Procedure and Administration).

[FR Doc. 06-5350 Filed 6-8-06; 3:47 pm]

BILLING CODE 4830-01-P